DEPARTMENT OF COMMERCE

National Oceanic and Atmospheric Administration

RIN 0648-XG777

North Pacific Fishery Management Council; Public Meeting

AGENCY: National Marine Fisheries Service (NMFS), National Oceanic and Atmospheric Administration (NOAA), Commerce.

ACTION: Notice of public meeting.

SUMMARY: The North Pacific Fishery Management Council (Council) Cook Inlet Salmon Committee will meet on March 6, 2019.

DATES: The meeting will be held on Wednesday, March 6, 2019, from 9 a.m. to 5 p.m. Alaska Standard Time.

ADDRESSES: The meeting will be held at the Anchorage Hilton Hotel, 500 W 3rd Ave., Anchorage, AK 99501. Meeting room to be determined. Teleconference number is (907) 245-3900, Pin is 2809.

Council address: North Pacific Fishery Management Council, 605 W 4th Ave., Suite 306, Anchorage, AK 99501-2252; telephone (907) 271-2809.

FOR FURTHER INFORMATION CONTACT: Jim Armstrong, Council staff; telephone: (907) 271-2809.

SUPPLEMENTARY INFORMATION:

Agenda

Wednesday, March 6, 2019

The agenda for the meeting will include development of Committee recommendations for fulfilling Magnuson Stevens Act requirements on: Record keeping and reporting, standardized bycatch reporting methodology, and status determination criteria. Additionally, staff will present a work plan for the economic and community impacts analysis associated with the FMP amendment, and additional information.

The Agenda is subject to change, and the latest version will be posted at www.npfmc.org/ prior to the meeting, along with meeting materials.

Public Comment

Public comment letters will be accepted and should be submitted either electronically at: Meetings.npfmc.org or through the mail: North Pacific Fishery Management Council, 605 W 4th Ave., Suite 306, Anchorage, AK 99501-2252. In-person oral public testimony will be accepted at the discretion of the chair.

Special Accommodations

The meeting is physically accessible to people with disabilities. Requests for sign language interpretation or other auxiliary aids should be directed to Shannon Gleason at (907) 271-2809 at least 7 working days prior to the meeting date.

Dated: February 6, 2019.
Tracey L. Thompson,
Acting Deputy Director, Office of Sustainable Fisheries, National Marine Fisheries Service.

[FR Doc. 2019-01876 Filed 2-8-19; 8:45 am]

BILLING CODE 3510-22-P